DEPARTMENT OF ENERGY

Federal Energy Regulatory Commission

Combined Notice of Filings #1

Take notice that the Commission received the following electric rate filings:

Docket Numbers: ER18-539-001.

Applicants: New England Power Pool Participants Committee.

Description: Tariff Amendment: Jan 2018 Membership Filing (Updated) to be effective 12/1/2017.

Filed Date: 1/5/18.

Accession Number: 20180105-5224.

Comments Due: 5 p.m. ET 1/26/18.

Docket Numbers: ER18-613-000.

Applicants: Alabama Power Company.

Description: § 205(d) Rate Filing: SMEPA NITSA Amendment Filing (adding 55 Delivery Points, etc.) to be effective 1/1/2018.

Filed Date: 1/5/18.

Accession Number: 20180105-5220.

Comments Due: 5 p.m. ET 1/26/18.

Docket Numbers: ER18-614-000.

Applicants: PJM Interconnection, L.L.C.

Description: § 205(d) Rate Filing: Revisions to OATT, Sch. 12—Appendix A re: RTEP Projects Approved Dec 2017 to be effective 4/5/2018.

Filed Date: 1/5/18.

Accession Number: 20180105-5222.

Comments Due: 5 p.m. ET 1/26/18.

Docket Numbers: ER18-615-000.

Applicants: Harvest Wind Energy, LLC.

Description: Petition for Waiver of Tariff Requirements and Request for Expedited Review of Harvest Wind Energy, LLC.

Filed Date: 1/5/18.

Accession Number: 20180105-5237.

Comments Due: 5 p.m. ET 1/19/18.

Docket Numbers: ER18-616-000.

Applicants: Midcontinent Independent System Operator, Inc.

Description: § 205(d) Rate Filing: 2018-01-08_SA 3082 Saratoga Wind-SMMPA GIA (J614) to be effective 12/21/2017.

Filed Date: 1/8/18.

Accession Number: 20180108-5077.

Comments Due: 5 p.m. ET 1/29/18.

Docket Numbers: ER18-617-000.

Applicants: Public Service Company of Colorado.

Description: Tariff Cancellation: OATT—Cancel Historic Att O-PSCo records to be effective 4/16/2016.

Filed Date: 1/8/18.

Accession Number: 20180108-5100.

Comments Due: 5 p.m. ET 1/29/18.

Docket Numbers: ER18-618-000.

Applicants: PacifiCorp.

Description: § 205(d) Rate Filing: Black Hills NITSA Rev 3 to be effective 1/1/2018.

Filed Date: 1/8/18.

Accession Number: 20180108-5106.

Comments Due: 5 p.m. ET 1/29/18.

Docket Numbers: ER18-619-000.

Applicants: ISO New England Inc.

Description: § 205(d) Rate Filing: Rev. to Tariff Related to Competitive Auctions with Sponsored Policy Resources to be effective 3/9/2018.

Filed Date: 1/8/18.

Accession Number: 20180108-5125.

Comments Due: 5 p.m. ET 1/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2018.
Kimberly D. Bose,
Secretary.

[FR Doc. 2018-00414 Filed 1-11-18; 8:45 am]

BILLING CODE 6717-01-P